DEPARTMENT OF ENERGY

Federal Energy Regulatory Commission

[Docket No. ES01-5-000, et al.]

Kentucky Utilities Company, et al.; Electric Rate and Corporate Regulation Filings

October 24, 2000.

Take notice that the following filings have been made with the Commission:

1. Kentucky Utilities Company

[Docket No. ES01-5-000]

Take notice that on October 16, 2000, Kentucky Utilities Company submitted an application pursuant to section 204 of the Federal Power Act seeking authorization to issue short-term debt in an amount not to exceed $400 million on or before November 30, 2002 with a final maturity no later than November 30, 2003.

Comment date: November 10, 2000, in accordance with Standard Paragraph E at the end of this notice.

2. Louisville Gas and Electric Company

[Docket No. ES01-6-000]

Take notice that on October 16, 2000, Louisville Gas and Electric Company submitted an application pursuant to section 204 of the Federal Power Act seeking authorization to issue short-term debt in an amount not to exceed $400 million on or before November 30, 2002 with a final maturity no later than November 30, 2003.

Comment date: November 10, 2000, in accordance with Standard Paragraph E at the end of this notice.

3. Sithe Tamuin Energy Services II, S. de R.L. de C.V.

[Docket No. EG01-8-000]

Take notice that on October 20, 2000 Sithe Tamuin Energy Services II, S. de R.L. de C.V. (Applicant), c/o Sithe Energies, Inc., 335 Madison Avenue, 28th Floor, New York, NY 10017 filed with the Federal Energy Regulatory Commission an application for determination of exempt wholesale generator status pursuant to Part 365 of the Commission's regulations.

Applicant is a company organized under the laws of Delaware, and will be engaged in the operation of a nominally rated 260 MW circulating fluidized bed petroleum coke power plant and auxiliary facilities located in Tamuin, San Luis Potosi, Mexico.

Comment date: November 14, 2000, in accordance with Standard Paragraph E at the end of this notice. The Commission will limit its consideration of comments to those that concern the adequacy or accuracy of the application.

4. Oklahoma Gas and Electric Company and OGE Energy Resources, Inc.

[Docket Nos. ER98-511-001] and [ER97-4345-013]

Take notice that on October 17, 2000, Oklahoma Gas and Electric Company and OGE Energy Resources, Inc. (OGE Companies) collectively tendered for filing an updated market analysis as required by the Commission's orders approving market based rates for each of the OGE Companies.

Comment date: November 7, 2000, in accordance with Standard Paragraph E at the end of this notice.

5. Allegheny Energy Service Corporation, on behalf of Monongahela Power Company, The Potomac Edison Company and West Penn Power Company (Allegheny Power)

[Docket No. ER96-58-005]

Take notice that on October 17, 2000, Allegheny Energy Service Corporation on behalf of Monongahela Power Company, The Potomac Edison Company and West Penn Power Company (Allegheny Power) tendered for filing revisions to its Open Access Transmission Tariff in compliance with the Commission's Order of October 2, 2000 at Docket Nos. ER96-58-003 and ER99-237-002, 93 FERC ¶ 61,005.

Copies of the filing have been provided to Allegheny Power's jurisdictional customers, those parties contained within the official service lists of the Federal Energy Regulatory Commission for Docket Nos. ER96-58-003 and ER99-237-002, the Public Utilities Commission of Ohio, the Pennsylvania Public Utility Commission, the Maryland Public Service Commission, the Virginia State Corporation Commission and the West Virginia Public Service Commission.

Comment date: November 7, 2000, in accordance with Standard Paragraph E at the end of this notice.

6. Illinois Power Company

[Docket No. ER00-3334-001]

Take notice that on October 16, 2000, Illinois Power Company (Illinois Power), 500 South 27th Street, Decatur, Illinois 62521, tendered for filing in compliance with the Commission's letter order issued September 14, 2000, in this proceeding, a complete, revised Service Agreement with a new designation as required in Order No. 614, FERC Stats. & Regs. ¶ 31.096 (2000).

Comment date: November 6, 2000, in accordance with Standard Paragraph E at the end of this notice.

7. Xcel Energy Services, Inc.

[Docket No. ER00-3438-001]

Take notice that on October 16, 2000, Xcel Energy Services, Inc. (XES), on behalf of Public Service Company of Colorado (Public Service), tendered for filing a corrected Master Power Purchase and Sale Agreement between Public Service and Sandia Resources Corporation which is an umbrella service agreement under Public Service's Rate Schedule for Market-Based Power Sales (Public Service FERC Electric Tariff, Original Volume No. 6).

XES requests that this agreement become effective on August 1, 2000. This filing is made in compliance with FERC Order dated September 29, 2000 in Docket No. ER00-3438-000 and FERC Order No. 614.

Comment date: November 6, 2000, in accordance with Standard Paragraph E at the end of this notice.

8. Energetix, Inc.

[Docket Nos. ER97-3556-011]

Take notice that on October 17, 2000, in compliance with the Commission's order issued September 12, 1997 in the above-referenced proceeding, Rochester Gas and Electric Corporation, 80 FERC ¶ 61,284 (1997), Energetix, Inc. (Energetix), tendered for filing with the Commission an update to the market power study originally submitted in support of Energetix's request for market-based rate authority.

Comment date: November 7, 2000, in accordance with Standard Paragraph E at the end of this notice.

9. Citizens Communications Company

[Docket No. ER00-3211-000]

Take notice that on October 19, 2000, Citizens Communications Company, tendered for filing Notice that effective September 28, 2000, Citizens Utilities Company changed its name to Citizens Communications Company.

Comment date: November 9, 2000, in accordance with Standard Paragraph E at the end of this notice.

10. Consumers Energy Company

[Docket No. ER00-3559-001]

Take notice that on October 16, 2000, Consumers Energy Company (Consumers), tendered for filing a designated version of Consumers Energy Company Electric Rate Schedule FERC No. 44 as provided for in Order No. 614, pursuant to the October 5, 2000 letter order in this docket.

Copies of the filing were served upon Northern, the Michigan Public Service Commission and the Indiana Utility Regulatory Commission.

Comment date: November 6, 2000, in accordance with Standard Paragraph E at the end of this notice.

11. PECO Energy Company

[Docket No. ER01-127-000]

Take notice that on October 16, 2000, PECO Energy Company (PECO), tendered for filing under Section 205 of the Federal Power Act, 16 U.S.C. S 792 et seq., a Service Agreement dated October 5, 2000 with Smartenergy.com (SMC) under PECO's FERC Electric Tariff Original Volume No. 1 (Tariff).

PECO requests an effective date of November 1, 2000 for the Agreement.

PECO states that copies of this filing have been supplied to Smartenergy.com and to the Pennsylvania Public Utility Commission.

Comment date: November 6, 2000, in accordance with Standard Paragraph E at the end of this notice.

12. Western Resources, Inc.

[Docket No. ER01-157-000]

Take notice that on October 19, 2000, Western Resources, Inc. (WR), tendered for filing a Service Agreement between WR and Strategic Energy LLP (Strategic). WR states that the purpose of this agreement is to permit Strategic to take service under WR” Market Based Power Sales Tariff on file with the Commission.

This agreement is proposed to be effective November 19, 2000.

Copies of the filing were served upon Strategic Energy LLP and the Kansas Corporation Commission.

Comment date: November 9, 2000, in accordance with Standard Paragraph E at the end of this notice.

13. Virginia Electric and Power Company

[Docket No. ER01-158-000]

Take notice that on October 19, 2000, Virginia Electric and Power Company (Dominion Virginia Power or the Company), tendered for filing a Service Agreement for Long Term Firm Point-to-Point Transmission Service with PECO Energy Company. This Agreement will be designated as Service Agreement No. 306 under the Company's FERC Electric Tariff, Revised Volume No. 5.

The foregoing Service Agreement is tendered for filing under the Open Access Transmission Tariff to Eligible Purchasers effective June 7, 2000. Under the tendered Service Agreement, Dominion Virginia Power will provide long term firm point-to-point service to the Transmission Customer under the rates, terms and conditions of the Open Access Transmission Tariff.

Dominion Virginia Power requests an effective date of October 19, 2000, the date of filing of the Service Agreement.

Copies of the filing were served upon PECO Energy Company, the Virginia State Corporation Commission, and the North Carolina Utilities Commission.

Comment date: November 9, 2000, in accordance with Standard Paragraph E at the end of this notice.

14. Consolidated Edison Company of New York, Inc.

[Docket No. ER01-160-000]

Take notice that on October 19, 2000, Consolidated Edison Company of New York, Inc. (Con Edison), tendered for filing a Supplement to its Rate Schedule, Con Edison Rate Schedule FERC No. 129, a facilities agreement with Orange and Rockland Utilities, Inc., (O&R). The Supplement provides for an increase in the monthly carrying charges.

Con Edison states that a copy of this filing has been served upon O&R.

Comment date: November 9, 2000, in accordance with Standard Paragraph E at the end of this notice.

15. Consolidated Edison Company of New York, Inc.

[Docket No. ER01-161-000]

Take notice that on October 19, 2000, Consolidated Edison Company of New York, Inc. (Con Edison), tendered for filing a Supplement to its Rate Schedule, Con Edison Rate Schedule FERC No. 2, a facilities agreement with Central Hudson Gas and Electric Corporation (CH). The Supplement provides for a decrease in the monthly carrying charges.

Con Edison has requested that this decrease take effect as of October 1, 2000.

Con Edison states that a copy of this filing has been served by mail upon CH.

Comment date: November 9, 2000, in accordance with Standard Paragraph E at the end of this notice.

16. Jersey Central Power & Light Company, Metropolitan Edison Company and Pennsylvania Electric Company

[Docket No. ER01-162-000]

Take notice that on October 19, 2000, Jersey Central Power & Light Company, Metropolitan Edison Company and Pennsylvania Electric Company (individually doing business as GPU Energy), tendered for filing a Notice of Cancellation of the Service Agreement between GPU Service Corporation and KCS Power Marketing, Inc., FERC Electric Tariff, Original Volume No. 1, Service Agreement No. 38.

GPU Energy requests that cancellation be effective December 18, 2000.

Comment date: November 9, 2000, in accordance with Standard Paragraph E at the end of this notice.

17. Jersey Central Power & Light Company, Metropolitan Edison Company and Pennsylvania Electric Company

[Docket No. ER01-163-000]

Take notice that on October 19, 2000, Jersey Central Power & Light Company, Metropolitan Edison Company and Pennsylvania Electric Company (individually doing business as GPU Energy), tendered for filing a Notice of Cancellation of the Service Agreement between GPU Service, Inc. and Niagara Mohawk Power Corporation, FERC Electric Tariff, Original Volume No. 1, Service Agreement No. 69.

GPU Energy requests that cancellation be effective December 18, 2000.

Comment date: November 9, 2000, in accordance with Standard Paragraph E at the end of this notice.

18. Jersey Central Power & Light Company, Metropolitan Edison Company and Pennsylvania Electric Company

[Docket No. ER01-164-000]

Take notice that on October 19, 2000, Jersey Central Power & Light Company, Metropolitan Edison Company and Pennsylvania Electric Company (individually doing business as GPU Energy), tendered for filing a Notice of Cancellation of the Service Agreement between GPU Service Corporation and Commonwealth Edison Company, FERC Electric Tariff, Original Volume No. 1, Service Agreement No. 45.

GPU Energy requests that cancellation be effective December 18, 2000.

Comment date: November 9, 2000, in accordance with Standard Paragraph E at the end of this notice.

19. Jersey Central Power & Light Company, Metropolitan Edison Company and Pennsylvania Electric Company

[Docket No. ER01-165-000]

Take notice that on October 19, 2000, Jersey Central Power & Light Company, Metropolitan Edison Company and Pennsylvania Electric Company (individually doing business as GPU Energy), tendered for filing Notice of Cancellation of the Service Agreement between GPU Service Corporation and Coral Power, L.L.C., FERC Electric Tariff, Original Volume No. 1, Service Agreement No 46.

GPU Energy requests that cancellation be effective December 18, 2000.

Comment date: November 9, 2000, in accordance with Standard Paragraph E at the end of this notice.

20. Jersey Central Power & Light Company, Metropolitan Edison Company and Pennsylvania Electric Company

[Docket No. ER01-166-000]

Take notice that on October 19, 2000, Jersey Central Power & Light Company, Metropolitan Edison Company and Pennsylvania Electric Company (individually doing business as GPU Energy), tendered for filing Notice of Cancellation of the Service Agreement between GPU Service Corporation and Morgan Stanley Capital Group, Inc., FERC Electric Tariff, Original Volume No. 1, Service Agreement No. 53.

GPU Energy requests that cancellation be effective December 18, 2000.

Comment date: November 9, 2000, in accordance with Standard Paragraph E at the end of this notice.

21. Jersey Central Power & Light Company, Metropolitan Edison Company and Pennsylvania Electric Company

[Docket No. ER01-167-000]

Take notice that on October 19, 2000, Jersey Central Power & Light Company, Metropolitan Edison Company and Pennsylvania Electric Company (individually doing business as GPU Energy), tendered for filing Notice of Cancellation of the Service Agreement between GPU Service Corporation and Baltimore Gas and Electric Company, FERC Electric Tariff, Original Volume No. 1, Service Agreement No. 31.

GPU Energy requests that cancellation be effective December 18, 2000.

Comment date: November 9, 2000, in accordance with Standard Paragraph E at the end of this notice.

22. Jersey Central Power & Light Company, Metropolitan Edison Company and Pennsylvania Electric Company

[Docket No. ER01-170-000]

Take notice that on October 19, 2000, Jersey Central Power & Light Company, Metropolitan Edison Company and Pennsylvania Electric Company (individually doing business as GPU Energy), tendered for filing Notice of Cancellation of the Service Agreement between GPU Service Corporation and LG&E Power Marketing Inc., FERC Electric Tariff, Original Volume No. 1, Service Agreement No. 8.

GPU Energy requests that cancellation be effective December 18, 2000.

Comment date: November 9, 2000, in accordance with Standard Paragraph E at the end of this notice.

23. Consumers Energy Company and CMS Marketing, Services and Trading Company

[Docket No. ER01-171-000]

Take notice that on October 19, 2000, Consumers Energy Company (CECo) and CMS Marketing, Services and Trading Company (CMS MST), tendered for filing an application requesting modification of Code of Conduct, modification of CECo's market-based rate power sales tariff, FERC Electric Tariff, First Revised Volume No. 8, and acceptance of a service agreement.

Comment date: November 9, 2000, in accordance with Standard Paragraph E at the end of this notice.

24. Illinois Power Company

[Docket No. ER01-175-000]

Take notice that on October 18, 2000, Illinois Power Company (IP), 500 South 27th Street, Decatur, Illinois 65251-2200, tendered for filing with the Commission a Service Agreement for Network Integration Transmission Service and a Network Operating Agreement with Central Illinois Light Company entered into pursuant to IP's Open Access Transmission Tariff.

IP requests an effective date of September 18, 2000 for the Agreements and accordingly seeks a waiver of the Commission's notice requirement.

IP has served a copy of the filing on CILCO.

Comment date: November 8, 2000, in accordance with Standard Paragraph E at the end of this notice.

25. PG Power Sales Twelve, L.L.C.

[Docket No. ER01-196-000]

Take notice that on October 16, 2000, PG Power Sales Twelve, L.L.C., tendered for filing Notice that effective September 28, 2000, CP Power Sales Four, L.L.C., changed its name to PG Power Sales Twelve, L.L.C.

Comment date: November 6, 2000, in accordance with Standard Paragraph E at the end of this notice.

26. PG Power Sales Eleven, L.L.C.

[Docket No. ER01-197-000]

Take notice that on October 16, 2000, PG Power Sales Eleven, L.L.C., tendered for filing Notice that effective September 28, 2000, CP Power Sales Eleven, L.L.C., changed its name to PG Power Sales Eleven, L.L.C.

Comment date: November 6, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-27897 Filed 10-30-00; 8:45 am]

BILLING CODE 6717-01-U